DEPARTMENT OF ENERGY

Federal Energy Regulatory Commission

Combined Notice of Filings #1

Take notice that the Commission received the following electric corporate filings:

Docket Numbers: EC98-2-005; ER18-2162-004.

Applicants: Louisville Gas and Electric Company, Kentucky Utilities Company, Louisville Gas & Electric Company, Kentucky Utilities Company.

Description: Refund Report of Louisville Gas and Electric Company et al.

Filed Date: 12/18/23.

Accession Number: 20231218-5306.

Comment Date: 5 p.m. ET 1/8/24.

Take notice that the Commission received the following exempt wholesale generator filings:

Docket Numbers: EG24-60-000.

Applicants: San Juan Solar 1, LLC.

Description: San Juan Solar 1, LLC submits Notice of Self-Certification of Exempt Wholesale Generator Status.

Filed Date: 12/20/23.

Accession Number: 20231220-5266.

Comment Date: 5 p.m. ET 1/10/24.

Docket Numbers: EG24-61-000.

Applicants: SJS 1 Storage, LLC.

Description: SJS 1 Storage, LLC submits Notice of Self-Certification of Exempt Wholesale Generator Status.

Filed Date: 12/20/23.

Accession Number: 20231220-5268.

Comment Date: 5 p.m. ET 1/10/24.

Docket Numbers: EG24-62-000.

Applicants: Town Hill Energy Storage 1 LLC.

Description: Town Hill Energy Storage 1 LLC submits Notice of Self-Certification of Exempt Wholesale Generator Status.

Filed Date: 12/21/23.

Accession Number: 20231221-5097.

Comment Date: 5 p.m. ET 1/11/24.

Take notice that the Commission received the following electric rate filings:

Docket Numbers: ER22-1525-003.

Applicants: Southwest Power Pool, Inc.

Description: Compliance filing: Settlement Compliance Filing of People's Electric in Response to Nov. 30 Order to be effective 6/1/2022.

Filed Date: 12/21/23.

Accession Number: 20231221-5056.

Comment Date: 5 p.m. ET 1/11/24.

Docket Numbers: ER23-1752-002.

Applicants: Oak Trail Solar, LLC.

Description: Tariff Amendment: Second Response to Deficiency Letter to be effective 6/30/2023.

Filed Date: 12/21/23.

Accession Number: 20231221-5040.

Comment Date: 5 p.m. ET 1/11/24.

Docket Numbers: ER23-2957-001.

Applicants: Alabama Power Company, Georgia Power Company, Mississippi Power Company.

Description: Tariff Amendment: Alabama Power Company submits tariff filing per 35.17(b): Origis Development (Pelham Solar + Storage) LGIA Deficiency Response to be effective 9/22/2023.

Filed Date: 12/21/23.

Accession Number: 20231221-5178.

Comment Date: 5 p.m. ET 1/11/24.

Docket Numbers: ER23-2977-001.

Applicants: Midcontinent Independent System Operator, Inc.

Description: Tariff Amendment: 2023-12-21_Deficiency Response to Reliability Based Demand Curve to be effective 6/3/2024.

Filed Date: 12/21/23.

Accession Number: 20231221-5103.

Comment Date: 5 p.m. ET 1/11/24.

Docket Numbers: ER23-2979-001.

Applicants: CPV Maple Hill Solar, LLC.

Description: Compliance filing: Reactive Power Rate Schedule Compliance Filing to be effective 11/29/2023.

Filed Date: 12/21/23.

Accession Number: 20231221-5196.

Comment Date: 5 p.m. ET 1/11/24.

Docket Numbers: ER24-719-000.

Applicants: Database returns error. There is a problem with archive data and system. Contact Administrator.

Description: Baseline eTariff Filing: San Juan Solar 1, LLC submits tariff filing per 35.12: Application for Market-Based Rate Authority to be effective 2/19/2024.

Filed Date: 12/20/23.

Accession Number: 20231220-5254.

Comment Date: 5 p.m. ET 1/10/24.

Docket Numbers: ER24-720-000.

Applicants: SJS 1 Storage, LLC.

Description: Baseline eTariff Filing: Application for Market-Based Rate Authority to be effective 2/19/2024.

Filed Date: 12/20/23.

Accession Number: 20231220-5256.

Comment Date: 5 p.m. ET 1/10/24.

Docket Numbers: ER24-721-000.

Applicants: Database returns error. There is a problem with archive data and system. Contact Administrator.

Description: 205(d) Rate Filing: PJM Interconnection, L.L.C. submits tariff filing per 35.13(a)(2)(iii: Amendment to ISA, Service Agreement No. 6206; Queue No. AE1-196 to be effective 2/19/2024.

Filed Date: 12/20/23.

Accession Number: 20231220-5270.

Comment Date: 5 p.m. ET 1/10/24.

Docket Numbers: ER24-722-000.

Applicants: Oklahoma Gas and Electric Company.

Description: 205(d) Rate Filing: Normal filing 2024 Jan to be effective 1/1/2024.

Filed Date: 12/20/23.

Accession Number: 20231220-5278.

Comment Date: 5 p.m. ET 1/10/24.

Docket Numbers: ER24-723-000.

Applicants: Southwest Power Pool, Inc.

Description: 205(d) Rate Filing: 4206 Tenaska Clear/WAPA Facilities Construction Agreement to be effective 2/20/2024.

Filed Date: 12/21/23.

Accession Number: 20231221-5034.

Comment Date: 5 p.m. ET 1/11/24.

Docket Numbers: ER24-724-000.

Applicants: Southwest Power Pool, Inc.

Description: 205(d) Rate Filing: 607R45 Evergy Kansas Central, Inc. NITSA NOA to be effective 12/1/2023.

Filed Date: 12/21/23.

Accession Number: 20231221-5136.

Comment Date: 5 p.m. ET 1/11/24.

Docket Numbers: ER24-725-000.

Applicants: PJM Interconnection, L.L.C.

Description: 205(d) Rate Filing: Amendment to 5 Service Agreements re: FirstEnergy Reorganization to be effective 12/31/9998.

Filed Date: 12/21/23.

Accession Number: 20231221-5154.

Comment Date: 5 p.m. ET 1/11/24.

Docket Numbers: ER24-726-000.

Applicants: Viridon New York Inc.

Description: Baseline eTariff Filing: Formula Rate Baseline to be effective 2/20/2024.

Filed Date: 12/21/23.

Accession Number: 20231221-5157.

Comment Date: 5 p.m. ET 1/11/24.

Docket Numbers: ER24-727-000.

Applicants: Viridon Southwest LLC.

Description: Baseline eTariff Filing: Formula Rate Baseline to be effective 2/20/2024.

Filed Date: 12/21/23.

Accession Number: 20231221-5159.

Comment Date: 5 p.m. ET 1/11/24.

Docket Numbers: ER24-728-000.

Applicants: Tri-State Generation and Transmission Association, Inc.

Description: Tariff Amendment: Notice of Cancellation of Service Agreement FERC No. 610 to be effective 11/25/2023.

Filed Date: 12/21/23.

Accession Number: 20231221-5167.

Comment Date: 5 p.m. ET 1/11/24.

Docket Numbers: ER24-729-000.

Applicants: Holyoke BESS LLC.

Description: Baseline eTariff Filing: Application for Market Based Rate Authority to be effective 12/22/2023.

Filed Date: 12/21/23.

Accession Number: 20231221-5185.

Comment Date: 5 p.m. ET 1/11/24.

Docket Numbers: ER24-730-000.

Applicants: Southern California Edison Company.

Description: 205(d) Rate Filing: 5th Amend CLGIA & DSA, Mesa Wind (WDT400-WDT400QFC/SA Nos. 395-396) to be effective 12/22/2023.

Filed Date: 12/21/23.

Accession Number: 20231221-5188.

Comment Date: 5 p.m. ET 1/11/24.

Docket Numbers: ER24-731-000.

Applicants: Midcontinent Independent System Operator, Inc.

Description: 205(d) Rate Filing: 2023-12-21_SA 4163 IMPA-IN Solar 1 FSA (J1234) to be effective 2/20/2024.

Filed Date: 12/21/23.

Accession Number: 20231221-5189.

Comment Date: 5 p.m. ET 1/11/24.

Docket Numbers: ER24-732-000.

Applicants: Midcontinent Independent System Operator, Inc.

Description: 205(d) Rate Filing: 2023-12-21_SA 4165 IMPA-IN Solar 1 FSA (J1235) to be effective 2/20/2024.

Filed Date: 12/21/23.

Accession Number: 20231221-5191.

Comment Date: 5 p.m. ET 1/11/24.

Docket Numbers: ER24-733-000.

Applicants: California State University Channel Islands Site Authority.

Description: 205(d) Rate Filing: Amended Request for Schedule L-1, Expedited Consideration and Waiver to be effective 12/21/2023.

Filed Date: 12/21/23.

Accession Number: 20231221-5195.

Comment Date: 5 p.m. ET 1/11/24.

Docket Numbers: ER24-734-000.

Applicants: Southwest Power Pool, Inc.

Description: 205(d) Rate Filing: 1276R32 Evergy Metro NITSA NOA to be effective 12/1/2023.

Filed Date: 12/21/23.

Accession Number: 20231221-5199.

Comment Date: 5 p.m. ET 1/11/24.

Docket Numbers: ER24-735-000.

Applicants: PJM Interconnection, L.L.C.

Description: Tariff Amendment: Notice of Cancellation of WMPA, SA No. 5759; Queue No. AF2-277 re: withdrawal to be effective 1/15/2024.

Filed Date: 12/21/23.

Accession Number: 20231221-5206.

Comment Date: 5 p.m. ET 1/11/24.

Docket Numbers: ER24-736-000.

Applicants: PJM Interconnection, L.L.C.

Description: Tariff Amendment: Notice of Cancellation of WMPA, SA No. 5760; Queue No. AF2-278 re: withdrawal to be effective 1/15/2024.

Filed Date: 12/21/23.

Accession Number: 20231221-5209.

Comment Date: 5 p.m. ET 1/11/24.

Docket Numbers: ER24-737-000.

Applicants: PJM Interconnection, L.L.C.

Description: Tariff Amendment: Notice of Cancellation of WMPA, SA No. 5761; Queue No. AF2-279 re: withdrawal to be effective 1/15/2024.

Filed Date: 12/21/23.

Accession Number: 20231221-5211.

Comment Date: 5 p.m. ET 1/11/24.

Docket Numbers: ER24-738-000.

Applicants: PNY BESS LLC.

Description: Baseline eTariff Filing: Application For Market Based Rate Authority to be effective 12/22/2023.

Filed Date: 12/21/23.

Accession Number: 20231221-5215.

Comment Date: 5 p.m. ET 1/11/24.

Docket Numbers: ER24-739-000.

Applicants: PJM Interconnection, L.L.C.

Description: Tariff Amendment: Notice of Cancellation of WMPA, SA No. 5835; Queue No. AF2-288 re: withdrawal to be effective 1/15/2024.

Filed Date: 12/21/23.

Accession Number: 20231221-5216.

Comment Date: 5 p.m. ET 1/11/24.

Docket Numbers: ER24-740-000.

Applicants: PJM Interconnection, L.L.C.

Description: Tariff Amendment: Notice of Cancellation of WMPA, SA No. 5820; Queue No. AF2-290 re: withdrawal to be effective 1/15/2024.

Filed Date: 12/21/23.

Accession Number: 20231221-5218.

Comment Date: 5 p.m. ET 1/11/24.

Docket Numbers: ER24-741-000.

Applicants: PJM Interconnection, L.L.C.

Description: 205(d) Rate Filing: Amendment to 5 Service Agreements re: FirstEnergy Reorganization to be effective 12/31/9998.

Filed Date: 12/21/23.

Accession Number: 20231221-5219.

Comment Date: 5 p.m. ET 1/11/24.

Docket Numbers: ER24-742-000.

Applicants: Duke Energy Business Services LLC, PJM Interconnection, L.L.C.

Description: 205(d) Rate Filing: Duke Energy Business Services LLC submits tariff filing per 35.13(a)(2)(iii: Duke submits Amended Interconnection Agreement, Service Agreement No. 3132 to be effective 11/29/2023.

Filed Date: 12/21/23.

Accession Number: 20231221-5221.

Comment Date: 5 p.m. ET 1/11/24.

Docket Numbers: ER24-743-000.

Applicants: New York State Electric & Gas Corporation, New York Independent System Operator, Inc.

Description: 205(d) Rate Filing: New York State Electric & Gas Corporation submits tariff filing per 35.13(a)(2)(iii: NYISO-NYSEG Joint 205: Amended EPCA with Ticonderoga Solar, National Grid SA2764 to be effective 12/11/2023.

Filed Date: 12/21/23.

Accession Number: 20231221-5235.

Comment Date: 5 p.m. ET 1/11/24.

Docket Numbers: ER24-744-000.

Applicants: PJM Interconnection, L.L.C.

Description: Tariff Amendment: Notice of Cancellation of WMPA, SA No. 6080; Queue No. AF2-274 re: withdrawal to be effective 2/20/2024.

Filed Date: 12/21/23.

Accession Number: 20231221-5238.

Comment Date: 5 p.m. ET 1/11/24.

Docket Numbers: ER24-745-000.

Applicants: Midcontinent Independent System Operator, Inc.

Description: Midcontinent Independent System Operator, Inc. Request for Approval of Recovery of Charges in Accordance with Schedule 34 of the Open Access Transmission, Energy and Operating Reserve Markets Tariff.

Filed Date: 12/21/23.

Accession Number: 20231221-5256.

Comment Date: 5 p.m. ET 1/11/24.

Docket Numbers: ER24-746-000.

Applicants: Arizona Public Service Company.

Description: 205(d) Rate Filing: Rate Schedule No. 217, Exhibit B.RWY to be effective 2/23/2024.

Filed Date: 12/21/23.

Accession Number: 20231221-5265.

Comment Date: 5 p.m. ET 1/11/24.

Take notice that the Commission received the following electric securities filings:

Docket Numbers: ES24-19-000.

Applicants: ITC Midwest LLC.

Description: Application Under Section 204 of the Federal Power Act for Authorization to Issue Securities of ITC Midwest LLC.

Filed Date: 12/19/23.

Accession Number: 20231219-5256.

Comment Date: 5 p.m. ET 1/9/24.

Take notice that the Commission received the following electric reliability filings:

Docket Numbers: RR24-1-000.

Applicants: North American Electric Reliability Corporation.

Description: North American Electric Reliability Corporation submits Petition for Approval of Revisions to the NERC Working Capital and Reserves Policy.

Filed Date: 12/21/23.

Accession Number: 20231221-5223.

Comment Date: 5 p.m. ET 1/11/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 21, 2023.
Debbie-Anne A. Reese,
Deputy Secretary.

[FR Doc. 2023-28697 Filed 12-27-23; 8:45 am]

BILLING CODE 6717-01-P